DEPARTMENT OF TRANSPORTATION

National Highway Traffic Safety Administration

[Docket No. NHTSA-2016-0059; Notice 1]

Notice of Receipt of Petition for Decision That Nonconforming Model Year 2014 Bentley Flying Spur Saloon/Continental Passenger Cars Are Eligible for Importation

AGENCY: National Highway Traffic Safety Administration, DOT.

ACTION: Receipt of petition.

SUMMARY: This document announces receipt by the National Highway Traffic Safety Administration (NHTSA) of a petition for a decision that model year (MY) 2014 Bentley Flying Spur 4-door (Saloon) and 2-Door (Continental) passenger cars (PC's) that were not originally manufactured to comply with all applicable Federal motor vehicle safety standards (FMVSS), are eligible for importation into the United States because they are substantially similar to vehicles that were originally manufactured for sale in the United States and that were certified by their manufacturer as complying with the safety standards (the U.S.-certified version of the 2014 Bentley Flying Spur Saloon/Continental PC's) and they are capable of being readily altered to conform to the standards.

DATES: The closing date for comments on the petition is September 1, 2016.

ADDRESSES: Comments should refer to the docket and notice numbers above and be submitted by any of the following methods:

• Federal eRulemaking Portal: Go to http://www.regulations.gov. Follow the online instructions for submitting comments.

• Mail: Docket Management Facility: U.S. Department of Transportation, 1200 New Jersey Avenue SE., West Building Ground Floor, Room W12-140, Washington, DC 20590-0001

• Hand Delivery or Courier: West Building Ground Floor, Room W12-140, 1200 New Jersey Avenue SE., between 9 a.m. and 5 p.m. ET, Monday through Friday, except Federal holidays.

• Fax: 202-493-2251

Instructions: Comments must be written in the English language, and be no greater than 15 pages in length, although there is no limit to the length of necessary attachments to the comments. If comments are submitted in hard copy form, please ensure that two copies are provided. If you wish to receive confirmation that your comments were received, please enclose a stamped, self-addressed postcard with the comments. Note that all comments received will be posted without change to http://www.regulations.gov, including any personal information provided. Please see the Privacy Act heading below.

Privacy Act: Anyone is able to search the electronic form of all comments received into any of our dockets by the name of the individual submitting the comment (or signing the comment, if submitted on behalf of an association, business, labor union, etc.). You may review DOT's complete Privacy Act Statement in the Federal Register published on April 11, 2000 (65 FR 19477-78).

How to Read Comments submitted to the Docket: You may read the comments received by Docket Management at the address and times given above. You may also view the documents from the Internet at http://www.regulations.gov. Follow the online instructions for accessing the dockets. The docket ID number and title of this notice are shown at the heading of this document notice. Please note that even after the comment closing date, we will continue to file relevant information in the Docket as it becomes available. Further, some people may submit late comments. Accordingly, we recommend that you periodically search the Docket for new material.

FOR FURTHER INFORMATION CONTACT: George Stevens, Office of Vehicle Safety Compliance, NHTSA (202-366-5308).

SUPPLEMENTARY INFORMATION:

Background

Under 49 U.S.C. 30141(a)(1)(A), a motor vehicle that was not originally manufactured to conform to all applicable FMVSS shall be refused admission into the United States unless NHTSA has decided that the motor vehicle is substantially similar to a motor vehicle originally manufactured for importation into and sale in the United States, certified under 49 U.S.C. 30115, and of the same model year as the model of the motor vehicle to be compared, and is capable of being readily altered to conform to all applicable FMVSS.

Petitions for eligibility decisions may be submitted by either manufacturers or importers who have registered with NHTSA pursuant to 49 CFR part 592. As specified in 49 CFR 593.7, NHTSA publishes notice in the Federal Register of each petition that it receives, and affords interested persons an opportunity to comment on the petition. At the close of the comment period, NHTSA decides, on the basis of the petition and any comments that it has received, whether the vehicle is eligible for importation. The agency then publishes this decision in the Federal Register.

J. K. Technologies, LLC (JK), Inc. of Baltimore, Maryland (Registered Importer R-90-006) has petitioned NHTSA to decide whether nonconforming MY 2014 Bentley Flying Spur PC's are eligible for importation into the United States. The vehicles which JK believes are substantially similar are MY 2014 Bentley Flying Spur PC's sold in the United States and certified by their manufacturer as conforming to all applicable FMVSS.

The petitioner claims that it compared the subject non-U.S. certified MY 2014 Bentley Flying Spur PC's to their U.S.-certified counterparts, and found the vehicles to be substantially similar with respect to compliance with most FMVSS.

JK submitted information with its petition intended to demonstrate that the subject non-U.S. certified MY 2014 Bentley Flying Spur PC's, as originally manufactured, conform to many applicable FMVSS in the same manner as their U.S.-certified counterparts, or are capable of being readily altered to conform to those standards. Specifically, the petitioner claims that the subject non U.S.-certified MY 2014 Bentley Flying Spur PC's, as originally manufactured, conform to: Standard Nos. 102 Transmission Shift Lever Sequence, Starter Interlock, and Transmission Braking Effect, 103 Windshield Defrosting and Defogging Systems, 104 Windshield Wiping and Washing Systems, 135 Light Vehicle Brake Systems, 106 Brake Hoses, 113 Hood Latch System, 114 Theft Protection, 116 Motor Vehicle Brake Fluids, 118 Power-Operated Window, Partition, and Roof panel System, 124 Accelerator Control Systems, 126 Electronic Stability Control Systems, 138 Tire Pressure Monitoring Systems, 139 New Pneumatic Radial Tires for Light Vehicles, 201 Occupant Protection in Interior Impact, 202a Head Restraints, 204 Steering Control Rearward Displacement, 205 Glazing Materials, 206 Door Locks and Door Retention Components, 207 Seating Systems, 209 Seat Belt Assemblies, 210 Seat Belt Assembly Anchorages, 212 Windshield Mounting, 214 Side Impact Protection, 216 Roof Crush Resistance, 219 Windshield Zone Intrusion, 225 Child Restraint Anchorage Systems, and 302 Flammability of Interior Materials.

The petitioner also contends that the subject non-U.S certified vehicles are capable of being readily altered to meet the following standards, in the manner indicated:

Standard No. 101 Controls and Displays: Replacement of the speedometer with U.S. model components and addition of the brake warning indicator to fully comply with the standard.

Standard No. 108 Lamps, Reflective Devices and Associated Equipment: replacement of the taillamps, headlamps, and front and rear side marker lamps with U.S.-conforming components.

Standard No. 110 Tire Selection and Rims and Motor Home/Recreation Vehicle Trailer Load Carrying Capacity Information for Motor Vehicles with a GVWR of 4,536 Kilograms (10,000 Pounds) or Less: Installation of the required tire information placard.

Standard No. 111 Rearview Mirrors: Inscription of the required warning statement on the face of the passenger side rearview mirror or replacement of mirror with the U.S. model component.

Standard No. 208 Occupant Crash Protection: Replacement of the knee air bags (and associated hardware), passenger seat cushion weight sensor, software, warning labels, warning lights and owner manuals that are not identical to the U.S. model components with U.S. model components as detailed in the petition and its attachments.

After all new components are installed and wired, the diagnostic programming/coding tool must be used to ensure that the latest U.S. model code packs are installed and that all vehicle control modules associated with the occupant protection system function as required for the vehicles to conform to the standard.

Standard No. 301 Fuel System Integrity: Replacement of the fuel filler cap, leak diagnostics pump, vent pipe, and hose with U.S. model components as detailed in the petition and its attachments.

After all new components are installed and wired, the diagnostic programming/coding tool must be used to ensure that the latest U.S. model code packs are installed and that all vehicle control modules associated with the fuel system function as required for the vehicles to conform to the standard.

Standard No. 401 Interior Trunk Release: Installation of a U.S. model interior trunk release system as detailed in the petition and its attachments.

The petitioner additionally states that a vehicle identification plate must be affixed to the vehicle near the left windshield pillar to meet the requirements of 49 CFR part 565.

All comments received before the close of business on the closing date indicated above will be considered, and will be available for examination in the docket at the above addresses both before and after that date. To the extent possible, comments filed after the closing date will also be considered. Notice of final action on the petition will be published in the Federal Register pursuant to the authority indicated below.

Authority: 49 U.S.C. 30141(a)(1)(A), (a)(1)(B), and (b)(1); 49 CFR 593.7; delegation of authority at 49 CFR 1.95 and 501.8.

Jeffrey M. Giuseppe,
Director, Office of Vehicle Safety Compliance.

[FR Doc. 2016-18227 Filed 8-1-16; 8:45 am]

BILLING CODE 4910-59-P